FARM CREDIT ADMINISTRATION

12 CFR Part 650

RIN 3052-AB56

Federal Agricultural Mortgage Corporation; Risk-Based Capital Requirements

AGENCY: Farm Credit Administration.

ACTION: Proposed rule; comment period extension.

SUMMARY: The Farm Credit Administration (FCA) Board extends the comment period on the proposed rule that would establish risk-based capital requirements for the Federal Agricultural Mortgage Corporation (Corporation) to June 12, 2000, so interested parties have additional time to provide comments.

DATES: Please send your comments to us on or before June 12, 2000.

ADDRESSES: You may mail or deliver comments to Carl A. Clinefelter, Director, Office of Secondary Market Oversight, Farm Credit Administration, 1501 Farm Credit Drive, McLean, Virginia 22102-5090 or send them by facsimile transmission to (703) 734-5784. You may also submit comments via electronic mail to “reg-comm@fca.gov” or through the Pending Regulations section of the FCA's interactive Web site at “www.fca.gov.” Copies of all communications received will be available for review by interested parties in the Office of Policy and Analysis, Farm Credit Administration.

FOR FURTHER INFORMATION CONTACT: Carl A. Clinefelter, Director, Office of Secondary Market Oversight, Farm Credit Administration, McLean, VA 22102-5090, (703) 883-4280, TDD (703) 883-4444, or Dennis K. Carpenter, Senior Policy Analyst, Office of Policy and Analysis, Farm Credit Administration, McLean, VA 22102-5090, (703) 883-4498, TDD (703) 883-4444, or Joy Strickland, Senior Counsel, Office of General Counsel, Farm Credit Administration, McLean, VA 22102-5090, (703) 883-4020, TDD (703) 883-4444.

SUPPLEMENTARY INFORMATION: On November 12, 1999, FCA published a proposed rule in the Federal Register to amend regulations in part 650 to establish a risk-based capital stress test for the Corporation as required by section 8.32 of the Farm Credit Act of 1971, as amended (12 U.S.C. 227966-1). The comment period will expire on March 13, 2000. See 64 FR 61740, November 12, 1999. In response to a request, we now extend the comment period until June 12, 2000, so commenters will have more time to respond.

Dated: February 17, 2000.
Vivian L. Portis,
Secretary, Farm Credit Administration Board.

[FR Doc. 00-4339 Filed 2-23-00; 8:45 am]

BILLING CODE 6705-01-P